NATIONAL FOUNDATION ON THE ARTS AND THE HUMANITIES

Institute of Museum and Library Services

Notice of Proposed Information Collection Requests: Studies To Support IMLS's Learning Agendas for Libraries and Museums

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments about the proposed data collection for Studies to Support IMLS's Learning Agendas for Libraries and Museums. A copy of the proposed information collection request can be obtained by contacting the individual listed below in the ADDRESSES section of this Notice.

DATES: Written comments must be submitted to the office listed in the addressee section below on or before July 22, 2024.

ADDRESSES: Send comments to Julie Balutis, Director of Grants Policy and Management, Office of Grants Policy and Management, Institute of Museum and Library Services, 955 L'Enfant Plaza North SW, Suite 4000, Washington, DC 20024-2135. Ms. Balutis can be reached by telephone at 202-653-4645, or by email at jbalutis@imls.gov. Office hours are from 8:30 a.m. to 5 p.m., E.T., Monday through Friday, except federal holidays. Persons who are deaf or hard of hearing (TTY users) can contact IMLS at 202-207-7858 via 711 for TTY-Based Telecommunications Relay Service.

FOR FURTHER INFORMATION CONTACT: Lisa Hechtman, Ph.D., Social Science Research Analyst, Office of Research and Evaluation, Institute of Museum and Library Services, 955 L'Enfant Plaza North SW, Suite 4000, Washington, DC 20024-2135. Dr. Hechtman can be reached by telephone at 202-653-4724, or by email at lhechtman@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the Nation's libraries and museums. We advance, support, and empower America's museums, libraries, and related organizations through grant making, research, and policy development. To learn more, visit www.imls.gov.

II. Current Actions

IMLS seeks to advance an ambitious new agency learning agenda that includes key questions on children's reading literacy and the future of museums. To carry out this agenda, IMLS has commissioned Mathematica, Inc. to conduct two independent studies which will provide descriptive information, including trends over time, and illuminate the associations between outcomes and characteristics of institutions and communities. Evidence from these studies can inform the field, help IMLS focus and improve its grantmaking, and inform future IMLS-funded studies.

Agency: Institute of Museum and Library Services.

Title: Studies to Support IMLS's Learning Agendas for Libraries and Museums.

OMB Control Number: 3137-NEW.

Agency Number: 3137.

Respondents/Affected Public: Museum staff, library staff, IMLS awardees, library community partners.

Total Estimated Number of Annual Respondents: 250.

Frequency of Response: Once per request.

Average Minutes per Response: 52.6 minutes.

Total Estimated Number of Annual Burden Hours: 219.

Cost Burden (dollars): $6,900.47.

Public Comments Invited: Comments submitted in response to this Notice will be summarized and/or included in the request for OMB's clearance of this information collection.

Dated: May 17, 2024.
Suzanne Mbollo,
Grants Management Specialist, Institute of Museum and Library Services.

[FR Doc. 2024-11217 Filed 5-21-24; 8:45 am]

BILLING CODE 7036-01-P